DEPARTMENT OF JUSTICE

Notice of Lodging of Consent Decree Pursuant to the Clean Air Act

In accordance with Departmental policy, 28 CFR 50.7, notice is hereby given that a proposed consent decree in United States v. Caterpillar, Inc. and Camoplast Rockland Ltd, Civil Action No. 06-1096-JTM, was lodged on April 13, 2006, with the United States District Court for the District of Kansas. This consent decree requires the defendant Caterpillar, Inc. to pay a civil penalty of $300,000 and defendant Camoplast Rockland Ltd to perform injunctive relief in the form of installation of control technology to address Clean Air Act violations for the failure to apply for a case-by-case determination of maximum achievable control technology (MACT) as required by the Section 112(g) of the Clean Air Act at the defendant Camoplast Rockland Ltd's manufacturing plant located in Emporia, Kansas.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. Caterpillar, Inc. and Camoplast Rockland Ltd, DOJ Ref. 90-5-2-1-08552.

The proposed consent decree may be examined at the office of the United States Attorney, 1200 Epic Center, 301 North Main Street, Wichita, Kansas 67212, and at U.S. EPA Region 7, 901 N. 5th Street, Kansas City, Kansas 66101. During the comment period, the consent decree may be examined on the following Department of Justice Web site, http://www.usdoj.gov/enrd/open.html. Copies of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $5.75 for United States v. Caterpillar, Inc. and Camoplast Rockland Ltd, (25 cents per page reproduction cost) payable to the U.S. Treasury.

W. Benjamin Fisherow,
Deputy Section Chief, Environmental Enforcement Section.

[FR Doc. 06-3941 Filed 4-25-06; 8:45 am]

BILLING CODE 4410-15-M